DEPARTMENT OF COMMERCE

Census Bureau

2020 Census Tribal Consultation; Virtual Public Meeting

AGENCY: Bureau of the Census, Department of Commerce.

ACTION: Notice of meeting.

SUMMARY: The Bureau of the Census (Census Bureau) is continuing tribal consultation meetings through calendar year 2020. These meetings reflect the Census Bureau's commitment to strengthen government-to-government relationships with federally recognized tribes. The Census Bureau will provide updates and seek input on the 2020 Disclosure Avoidance System (DAS). The Census Bureau conducted one national tribal consultation webinar in September 2019 and two formal tribal consultation meetings in October 2019 specific to the 2020 Disclosure Avoidance System. The Census Bureau is planning one national webinar with federally recognized tribes, which will provide a forum for tribes to receive an update and to provide input on the 2020 Disclosure Avoidance System regarding work done specifically for the American Indian and Alaska Native tribal areas. The Census Bureau will provide information directly to tribes prior to the national webinar to give tribes time to review and provide input.

DATES: The Census Bureau will conduct the tribal consultation webinar on Tuesday, November 17, 2020, at 3:00 p.m. EST. Any questions or topics to be considered in the tribal consultation meetings must be received in writing via email by Tuesday, November 17, 2020.

ADDRESSES: The Census Bureau tribal consultation webinar meeting will be held via the WebEx platform at the following presentation link: https://uscensus.webex.com/uscensus/onstage/g.php?MTID=e020a909b86d28a8ea57200e1f0861e95.

For audio, please call the following number: 888-456-0349. When prompted, please use the following Participant Code: 3683767. Event Password (If Requested): @Tribal.

FOR FURTHER INFORMATION CONTACT: Dee Alexander, Tribal Affairs Coordinator, Office of Congressional and Intergovernmental Affairs, Intergovernmental Affairs Office, U.S. Census Bureau, Washington, DC 20233; telephone (301) 763-9335; fax (301) 763-3780; or by email at Dee.A.Alexander@census.gov or at ocia.tao@census.gov.

SUPPLEMENTARY INFORMATION:

Background

The Census Bureau's procedures for outreach, notice, and consultation ensure involvement of tribes, to the extent practicable and permitted by law, before making decisions or implementing policies, rules, or programs that affect federally recognized tribal governments. These meetings are open to citizens of federally recognized tribes by invitation.

The Census Bureau's Decennial Directorate and the Intergovernmental Affairs Office are responsible for the development and implementation of outreach and promotion activities to assist in obtaining a complete and accurate census count in 2020 among all residents, including the American Indian and Alaska Native populations. This program is one part of the overall outreach and promotion efforts directed at building awareness about the importance of the Census Bureau's commitment to produce quality 2020 American Indian and Alaska Native data for all tribal communities and organizations.

In accordance with Executive Order 13175, Consultation and Coordination with Indian Tribal Governments, issued November 6, 2000, the Census Bureau is adhering to its tribal consultation policy by seeking the input of tribal governments in the planning and implementation of the 2020 Census with the goal of ensuring the most accurate counts and data for the American Indian and Alaska Native population. In that regard, we are seeking comments to the following operational topics:

1. 2020 Disclosure Avoidance System

2. American Indian and Alaska Native Geography Hierarchy

Through the national tribal consultation webinar, Census Bureau staff will provide tribal communities with further details on disclosure avoidance methodology. For more information, please see the following URL link: https://www.census.gov/programs-surveys/decennial-census/2020-census/planning-management/2020-census-data-products/2020-das-updates.html.

Steven D. Dillingham, Director, Bureau of the Census, approved the publication of this Notice in the Federal Register.

Dated: October 14, 2020.
Sheleen Dumas,
Department PRA Clearance Officer, Office of the Chief Information Officer, Commerce Department.

[FR Doc. 2020-23161 Filed 10-19-20; 8:45 am]

BILLING CODE 3510-07-P